ENVIRONMENTAL PROTECTION AGENCY

[EPA-HQ-OPP-2009-0008; FRL-8403-2]

State Federal Insecticide, Fungicide, and Rodenticide Act; Working Committee's on Environmental Quality Issues and Pesticides Operations Management

AGENCY: Environmental Protection Agency (EPA).

ACTION: Notice.

SUMMARY: The Association of American Pesticide Control Officials (AAPCO)/State FIFRA Issues Research and Evaluation Group (SFIREG) Working Committee's on Environmental Quality Issues and Pesticides Operations Management will hold a 2-day meeting, beginning on April 27, 2009 and ending April 28, 2009. This notice announces the location and times for the meeting and sets forth the tentative agenda topics.

DATES: The meeting will be held on Monday, April 27, 2009 from 8:30 a.m. to 5:00 p.m. and 8:30 a.m to 12 noon on Tuesday April 28, 2009

To request accommodation of a disability, please contact the person listed under FOR FURTHER INFORMATON CONTACT, preferably at least 10 days prior to the meeting, to give EPA as much time as possible to process your request.

ADDRESSES: The meeting will be held at EPA. One Potomac Yard (South Bldg.) 2777 Crystal Dr., Arlington VA. 4th Floor South Conference Room.

FOR FURTHER INFORMATION CONTACT: Ron Kendall, Field and External Affairs Division (7506P), Office of Pesticide Programs, Environmental Protection Agency, 1200 Pennsylvania Ave., NW., Washington, DC 20460-0001; telephone number: (703) 305-5561 fax number: (703) 308-1850; e-mail address: kendall.ron@epa.gov. or Grier Stayton, SFIREG Executive Secretary, P.O. Box 466, Milford DE 19963; telephone number (302) 422-8152; fax (302) 422-2435; e-mail address: grierstaytonaapco-sfireg@comcast.net.

SUPPLEMENTARY INFORMATION:

I. General Information

A. Does this Action Apply to Me?

You may be potentially affected by this action if you are interested in SFIREG information exchange relationship with EPA regarding important issues related to human health, environmental exposure to pesticides, and insight into EPA's decision-making process. You are invited and encouraged to attend the meetings and participate as appropriate. Potentially affected entities may include, but are not limited to:

Those persons who are or may be required to conduct testing of chemical substances under the Federal Food, Drug and Cosmetics Act (FFDCA), or the Federal Insecticide, Fungicide, and Rodenticide Act (FIFRA).

B. How Can I Get Copies of this Document and Other Related Information?

1. Docket. EPA has established a docket for this action under docket ID number EPA-HQ-OPP-2008-0143. Publicly available docket materials are available either in the electronic docket at http://www.regulations.gov, or, if only available in hard copy, at the Office of Pesticide Programs (OPP) Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

2. Electronic access. You may access this Federal Register document electronically through the EPA Internet under the “Federal Register” listings at http://www.epa.gov/fedrgstr.

II. Background

1. State Updates/Issues

2. NPDES permitting of pesticides

3. Soil fumigant updates

4. Ground and surface water advisories

5. PRN 87-1 chemigation paper

6. Food safety issues and pesticide misuse

7. Non-agricultural pyrethroid advisories

8. Endangered species update

9. Recent NOAA biological opinion

10. Region 5 Community Level benchmark development

11. Web-distributed labeling

12. Green labeling

III. How Can I Request to Participate in this Meeting?

You may submit a request to participate in this meeting to the person listed under FOR FURTHER INFORMATION CONTACT. Do not submit any information in your request that is considered CBI. Requests to participate in the meeting, identified by docket ID number EPA-HQ-OPP-2009-0008, must be received on or before April 21, 2009.

List of Subjects

Environmental protection,

Dated: February 10, 2009.
William R. Diamond,
Director, Field and External Affairs Division, Office of Pesticide Programs.

[FR Doc. E9-4003 Filed 2-24-09; 8:45 am]

BILLING CODE 6560-50-S